DEPARTMENT OF HEALTH AND HUMAN SERVICES

Administration for Children and Families

Awards to Eleven Office of Refugee Resettlement Shelter Care Providers

AGENCY: Office of Refugee Resettlement, HHS.

ACTION: Notice of grant awards.

CFDA #: 93.676.

SUMMARY: This notice is hereby given that awards will be made to eleven unaccompanied alien shelter care providers in the amount of $10,633,009. This funding will support services through September 30, 2007.

Grantee | Location | Project period | Amount (dollars)
The Children's Village | Dobbs Ferry, NY | 10/1/04-9/30/09 | 405,415
Pioneer | Tacoma, WA | 10/1/04-9/30/09 | 151,771
Southwest Key—Brownsville | Brownsville, TX | 10/1/05-9/30/10 | 585,099
Southwest Key—Conroe | Houston, TX | 10/1/05-9/30/10 | 666,590
Southwest Key—Mesa | Houston, TX | 10/1/05-9/30/10 | 753,300
Lutheran Social Services of the South | El Paso, TX | 10/1/05-9/30/10 | 2,318,670
Southwest Key—El Paso | El Paso, TX | 10/1/05-9/30/10 | 1,526,590
Heartland/ICC | Chicago, IL | 10/1/05-9/30/10 | 2,457,752
Southwest Key—Phoenix | Phoenix, AZ | 10/1/05-9/30/10 | 634,810
International Educational Services—Foster Care | Harlingen, TX | 3/1/06-2/28/11 | 245,567
Florence Crittenton | Fullerton, CA | 3/1/06-2/28/11 | 887,445

This funding will support the expansion of shelter/foster care program bed capacity to meet the number of unaccompanied alien children referrals from the Department of Homeland Security (DHS).

The program is mandated by section 462 of the Homeland Security Act to ensure appropriate placement of all referrals from the DHS. ORR's ability to meet this mandate is often a challenge since the program is completely tied to DHS apprehension strategies and the sporadic number of border crossers. The program has seen a dramatic increase in the number of children referred from DHS in the past few months necessitating an expansion of existing shelter care capacity.

The program has very specific requirements for the provision of services. Existing grantees are the only entities with the infrastructure, licensing, experience and appropriate level of trained staff to meet the service requirements and the urgent need for expansion. The program's ability to avoid a backlog of children waiting in border patrol stations for placement can only be accommodated through the expansion of existing programs through this supplemental award process.

FOR FURTHER INFORMATION CONTACT: Kenneth Tota, Office of Refugee Resettlement, Administration for Children and Families, 370 L'Enfant Promenade, SW., Washington, DC, 20447, telephone (202) 401-4858.

Dated: August 7, 2007.
Kenneth Tota,
Chief of Operations, Office of Refugee Resettlement.

[FR Doc. E7-15726 Filed 8-9-07; 8:45 am]

BILLING CODE 4184-01-P